DEPARTMENT OF HOMELAND SECURITY

[Docket No. DHS-2013-0018]

Request for Information (RFI) Regarding the Planned Biotechnology Development Module (BDM) As Part of the National Bio and Agro-Defense Facility (NBAF) and Notice of Public Workshop; Correction

AGENCY: Science and Technology Directorate, Department of Homeland Security.

ACTION: Request for Information and Notice of Workshop; Correction.

SUMMARY: The Department of Homeland Security (DHS) published a document in the Federal Register of March 4, 2013, requesting information regarding utilization alternatives for the planned Biotechnology Development Module (BDM) a planned component of the National Bio and Agro-Defense Facility (NBAF) and announcing a workshop for all interested parties. Due to sequestration, the workshop is postponed until further notice.

FOR FURTHER INFORMATION CONTACT: Mary Goobic, 202-254-6144.

Corrections

In the Federal Register of March 4, 2013, in FR Doc. 2013-04919, on page 14103, in the third column, correct the DATES caption to read:

DATES: The Request for Information period will be 60 days (March 4 to May 2, 2013). Please submit written information no later than May 2, 2013.

Due to sequestration, the BDM public workshop originally scheduled for March 22, 2013 will be postponed until further notice. Notice regarding rescheduling this workshop will be issued once the government receives authorization to proceed.

In the Federal Register of March 4, 2013, in FR Doc. 2013-04919, on page 14103, in the third column, correct the ADDRESSES caption to read:

ADDRESSES: Written Information should be submitted via email to: nbafprogrammanager@dhs.gov ATTN: Mary Goobic.

Once the government receives authorization to proceed, information regarding a new date for the workshop will be posted at www.dhs.gov/nbaf.

In the Federal Register of March 4, 2013, in FR Doc. 2013-04919, on page 14104, in the first column, correct the “Workshop” section under the SUPPLEMENTARY INFORMATION caption to read:

Workshop

To further facilitate the information exchange between the government and the biologics industry, DHS will conduct a public workshop as part of the RFI process. The goals of the workshop are: (1) Provide an overview of the planned mission requirements of the BDM; (2) Provide the proposed BDM design; (3) Review analogous current and planned biological countermeasure development initiatives; (4) Gauge industry interest in the utilization of the BDM to enhance collaboration. This workshop is designed to provide information on the NBAF BDM and how it fits within the broader context of countermeasure development for protecting U.S. agriculture. A panel discussion is scheduled to give industry an opportunity to share lessons learned and insights on BDM related operations.

Due to sequestration, the BDM public workshop originally scheduled for March 22, 2013 will be postponed until further notice. DHS and USDA will continue to welcome and accept the written responses and ideas on how best to utilize the BDM during the period of the RFI. Notice regarding rescheduling this workshop will be issued on the NBAF Web site (www.dhs.gov/nbaf) once the government receives authorization to proceed. Questions regarding the workshop may be submitted by email to nbafprogrammanager@dhs.gov ATTN: Mary Goobic.

Dated: March 11, 2013.
Daniel M. Gerstein,
Deputy Under Secretary, Science and Technology Directorate, U.S. Department of Homeland Security.

[FR Doc. 2013-06311 Filed 3-19-13; 8:45 am]

BILLING CODE 9110-9F-P